DEPARTMENT OF TRANSPORTATION

Federal Aviation Administration

14 CFR Part 71

[Docket No. FAA-2018-0149; Airspace Docket No. 18-AEA-1]

RIN 2120-AA66

Modification of VOR Federal Airway V-312; Northeast United States

AGENCY: Federal Aviation Administration (FAA), DOT.

ACTION: Final rule; technical amendment.

SUMMARY: This action modifies the description of VOR Federal airway V-312 by removing a maximum authorized altitude (MAA) limitation published along the airway segment between the Woodstown, NJ, VORTAC, and the Coyle, NJ, VORTAC. The MAA is no longer required for air traffic control purposes and the FAA is removing it in order to improve the efficient flow of air traffic in the Philadelphia, PA area.

DATES: Effective date 0901 UTC, July 19, 2018. The Director of the Federal Register approves this incorporation by reference action under title 1, Code of Federal Regulations, part 51, subject to the annual revision of FAA, Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to http://www.archives.gov/federal-register/cfr/ibr-locations.html.

FAA Order 7400.11 Airspace Designations and Reporting Points, is published yearly and effective on September 15.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies VOR Federal airway V-312 to improve the efficient flow of air traffic.

History

VOR Federal airway V-312 extends between a point at the intersection of the Andrews, MD, VORTAC 060° radial, and the Baltimore, MD, VORTAC 165° radial (i.e., the charted POLLA fix); and the intersection of the Coyle, NJ, VORTAC 090° radial, and the Kennedy, NY, VOR/DME 154° radial (i.e., the charted PREPI fix).

In 1972, FAA inserted a maximum authorized altitude (MAA) of 8,000 feet MSL along the segment of V-312 between the Woodstown, NJ, VORTAC, and the Coyle, NJ, VORTAC (37 FR 15424; August 2, 1972). This was an air traffic control limitation for the purpose of facilitating the clearing of enroute traffic from over the Coyle VORTAC into the Philadelphia, PA, terminal area. The normal altitude structure for VOR Federal airways extends from 1,200 feet above ground level (or higher) up to, but not including, 18,000 feet MSL. Today, the 8,000-foot MSL MAA limitation on V-312 is obsolete and hampers the orderly transition of aircraft from the terminal to the enroute environment due to ATC automation system constraints. In addition, this results in increased workload for air traffic controllers.

VOR Federal airways are published in paragraph 6010(a) of FAA Order 7400.11B dated August 3, 2017, and effective September 15, 2017, which is incorporated by reference in 14 CFR 71.1. The VOR Federal airway listed in this document will be subsequently amended in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14, Code of Federal Regulations (14 CFR) part 71 by removing an obsolete MAA limitation from the description of V-312. The description is modified by removing the words “The airspace within R-5002D, the airspace below 2,000 feet MSL outside the United States, and the airspace above 8,000 feet MSL between Woodstown and Coyle is excluded.” and adding in its place “The airspace within R-5002D, and the airspace below 2,000 feet MSL outside the United States, is excluded.” This action does not affect the current alignment of V-312.

Because this amendment is necessary to remove an obsolete altitude limitation that impedes the orderly transition of aircraft from the terminal to enroute environment in the Philadelphia, PA, area, I find that notice and public procedure under 5 U.S.C. 553(b) are impractical and contrary to the public interest.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying the description of VOR Federal airway V-312 by removing a maximum authorized altitude (MAA) limitation published along the airway segment between the Woodstown, NJ, VORTAC, and the Coyle, NJ, VORTAC qualifies for categorical exclusion under the National Environmental Policy Act and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a) Domestic VOR Federal Airways.

* * * * *

V-312 [Amended]

From INT Andrews, MD, 060° and Baltimore, MD, 165° radials, via INT Andrews 060° and Woodstown, NJ, 230° radials; Woodstown; INT Woodstown 065° and Coyle, NJ, 264° radials; Coyle; INT Coyle 090° and Kennedy, NY, 154° radials. The airspace within R-5002D, and the airspace below 2,000 feet MSL outside the United States, is excluded.

* * * * *

Issued in Washington, DC, on May 16, 2018.
Rodger A. Dean, Jr.,
Manager, Airspace Policy Group.

[FR Doc. 2018-10947 Filed 5-22-18; 8:45 am]

BILLING CODE 4910-13-P